DEPARTMENT OF TRANSPORTATION

Pipeline and Hazardous Materials Safety Administration

[Docket No. PHMSA-2009-0390]

Pipeline Safety: Request for Special Permit Colonial Pipeline Company

AGENCY: Pipeline and Hazardous Materials Safety Administration (PHMSA); DOT.

ACTION: Notice.

SUMMARY: PHMSA is publishing this notice to seek public comments on a request for a special permit, seeking relief from compliance with certain requirements in the Federal pipeline safety regulations. At the conclusion of the 30-day comment period, PHMSA will review the comments received from this notice as part of its evaluation to grant or deny the special permit request.

DATES: Submit any comments regarding this special permit request by September 23, 2019.

ADDRESSES: Comments should reference the docket number for the specific special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

FOR FURTHER INFORMATION CONTACT:

General: Ms. Kay McIver by telephone at 202-366-0113, or email at kay.mciver@dot.gov.

Technical: Mr. Steve Nanney by telephone at 713-272-2855, or email at Steve.Nanney@dot.gov.

SUPPLEMENTARY INFORMATION: PHMSA has received a special permit request from the Colonial Pipeline Company (Colonial) to deviate from the Federal pipeline safety regulations in 49 CFR 195.310 for two (2) segments of the Colonial hazardous liquid pipeline system, where Colonial has failed to retain certain hydrostatic pressure test records. The first segment is a 66.372-mile portion of the 40-inch diameter Line 01 located in Acadia, St. Landry, Point Coupee, and West Feliciana Parishes, Louisiana (see special permit segment 1 below). The second segment is a 10.234-mile portion of the 40-inch diameter Line 01 located in Fulton, DeKalb and Gwinnett Counties, Georgia (see special permit segment 2 below). This special permit, if granted, would waive certain hydrostatic test record-keeping requirements of 49 CFR 195.310. Colonial operates the pipeline in special permit segment 1 at a maximum operating pressure (MOP) of 574 pounds per square inch gauge (psig) and special permit segment 2 is operated at a MOP of 743 psig.

The proposed special permit and Draft Environmental Assessment (DEA) for Colonial are available for public review and comment in Docket No. PHMSA-2009-0390 at www.Regulations.gov. We invite interested persons to participate by reviewing the special permit request and DEA, and by submitting written comments, data or other views. Please include any comments on potential safety and environmental impacts that may result if the special permit is granted.

Before issuing a decision on the special permit request, PHMSA will evaluate all comments received on or before the comments closing date. Comments received after the comment closing date, will be evaluated if it is possible to do so without incurring additional expense or delay. PHMSA will consider each relevant comment we receive in making our decision to grant or deny a request.

Issued in Washington, DC, on August 19, 2019, under authority delegated in 49 CFR 1.97.
Alan K. Mayberry,
Associate Administrator for Pipeline Safety.

[FR Doc. 2019-18169 Filed 8-22-19; 8:45 am]

BILLING CODE 4909-60-P